DEPARTMENT OF COMMERCE

National Oceanic and Atmospheric Administration

[RTID 0648-XC568]

Endangered and Threatened Species; Take of Anadromous Fish

AGENCY: National Marine Fisheries Service (NMFS), National Oceanic and Atmospheric Administration (NOAA), Commerce.

ACTION: Notice of receipt of one permit application for enhancement and monitoring purposes, including an associated Hatchery and Genetic Management Plan (HGMP), and notice of availability of a draft environmental assessment (EA).

SUMMARY: We, NMFS, announce receipt of a permit application (26277) to enhance the propagation and survival of species listed under the Endangered Species Act (ESA) of 1973, as amended, from the United States Corps of Engineers (USACE) and California Department of Fish and Wildlife (CDFW). The USACE and CDFW are requesting for the next 10 years, hatchery and monitoring activities associated with the Russian River Steelhead Program (RRSP). As part of this permit application, the USACE and CDFW have submitted an HGMP as an attachment to the application. This notice advises the public that the permit application and associated HGMP are available for review and comment, prior to a determination by NMFS on the issuance of the permit. This document serves to notify the public of the availability of the HGMP and associated draft EA that analyzes two alternatives for comment, prior to a decision by NMFS whether to approve the proposed hatchery program. The permit application, and attached HGMP, may be viewed online at: https://apps.nmfs.noaa.gov/preview/preview_open_for_comment.cfm.

DATES: Comments or requests for a public hearing on the application and associated draft EA must be received at the appropriate address or fax number (see ADDRESSES) no later than 5 p.m. Pacific standard time on December 29, 2022.

ADDRESSES: Written comments on the application and associated draft EA should be submitted to the California Coastal Office, NMFS, 777 Sonoma Avenue, Room 325, Santa Rosa, California 95404. Comments may also be submitted via fax to 707-578-3435, or by email to bob.coey@noaa.gov (include the permit number in the subject line of the fax or email).

FOR FURTHER INFORMATION CONTACT: Bob Coey, Santa Rosa, California (phone: 707-575-6090; Fax: 707-578-3435; bob.coey@noaa.gov). Permit application instructions are available from the address above, or online at https://apps.nmfs.noaa.gov.

SUPPLEMENTARY INFORMATION:

Species Covered in This Notice

The following listed species are covered in this notice:

• Steelhead (Oncorhynchus mykiss): threatened Central California Coast (CCC) Distinct Population Segment (DPS);

• Coho salmon (Oncorhynchus kisutch): endangered CCC Evolutionary Significant Unit (ESU);

• Chinook salmon (Oncorhynchus tshawytscha): threatened California Coastal (CC) ESU.

NMFS issues permits based on findings that such permits: (1) are applied for in good faith; (2) if granted and exercised, would not operate to the disadvantage of the listed species that are the subject of the permit; (3) are consistent with the purposes and policies of Section 2 of the ESA; (4) whether the permit would further a bona fide and necessary or desirable scientific purpose or enhance the propagation or survival of the endangered species, taking into account the benefits anticipated to be derived on behalf of the endangered species; and additional issuance criteria (as listed at 50 CFR § 222.308(c)(5-12)). The authority to take listed species is subject to conditions set forth in the permit.

Anyone requesting a hearing on an application listed in this notice should set out the specific reasons why a hearing on that application would be appropriate (see ADDRESSES). Such hearings are held at the discretion of the Assistant Administrator for NMFS.

Permit 26277

The USACE and CDFW have applied for an enhancement permit under Section 10(a)(1)(A) of the ESA for a period of 10 years that would allow take, associated with activities conducted through the Russian River Steelhead Program (RRSP), of multiple life stages of CCC steelhead. The permit would authorize these activities described in the permit application, which is accompanied by an HGMP. The HGMP describes hatchery and monitoring activities conducted through the RRSP. Hatchery activities included in this permit application would result in take of only CCC steelhead. Hatchery activities would be permitted pursuant to the final HGMP. Monitoring, broodstock collection, and in-river research activities, also included in the application, could result in take of CCC steelhead, CCC coho salmon, and CC Chinook salmon.

Under permit application 26277, the USACE and CDFW propose to rear hatchery steelhead to produce fish for harvest in sport fisheries in the Russian River as part of requirements to “mitigate” for the loss of natural steelhead production due to the construction of Warm Springs and Coyote Valley dams by the USACE. Proposed take activities for CCC steelhead include collecting broodstock; conducting routine hatchery activities including artificial propagation, rearing, tissue sampling, and marking; and transporting and releasing of steelhead smolts (1-year-old fish) into the Russian River and Dry Creek. In addition, Permit 26277 includes collection of natural origin juveniles, monitoring and in-river research activities, which could involve take of CCC coho salmon, CC Chinook salmon, and CCC steelhead.

Until HGMP performance objectives are met, the RRSP will release a total of 400,000 smolts. Warm Springs Hatchery (WSH) and Coyote Valley Fish Facility (CVFF) will each release 200,000 juveniles per year. The percent of natural origin broodstock target for WSH is 0.50 requiring a total of 90 natural origin returns and 315 hatchery origin returns. The percent of natural origin broodstock target for CVFF is 0.30 requiring 54 natural origin returns and 351 hatchery origin returns. After performance targets are met, and production is increased to 300,000 at Coyote Valley (totaling 500,000 between the two facilities), then an additional 45 natural origin returns may need to be collected and used as broodstock.

The hatchery program releases up to 500,000 yearling steelhead smolts at the Warm Springs and Coyote Valley facilities. Of the 500,000 smolts released, a maximum of 200,000 may be released at WSH and up to 300,000 at CVFF as long as HGMP performance metrics are achieved.

A maximum of 711 adult steelhead are required to achieve the juvenile production target of 500,000 yearling smolts.¹ Hatchery operations include spawning of adult fish that enter the facilities and natural origin spawners that are collected at traps or other methods. Operations will also include egg incubation, and rearing of juvenile fish and release of smolts per the HGMP.

¹ The actual number of adults used each year will be dependent on juvenile release number, female fecundity, the ability to capture natural origin return adults for broodstock, and pre-spawn mortality.

Monitoring activities would be focused on achieving program performance metrics in the hatchery and in the natural environment, and for management of Russian River recreational sport fisheries. Hatchery and environmental monitoring will include annual survey estimates of the percent of hatchery fish in natural spawning areas within large sub-watershed populations in the Russian River, as well as genetic sampling of juveniles. Associated sport angling harvest monitoring will be developed to improve estimates of catch, retention, and stray rates from each facility. Based on the results of these monitoring activities, the hatchery program will be modified accordingly to reduce and/or minimize impacts to natural populations via recommendations of the technical advisory committee, which includes CDFW, USACE, and NMFS. For a more detailed discussion of the proposed activities, please see the permit application package.

Public Comments Solicited

NMFS invites the public to comment on the permit application, the associated HGMP, and the draft EA (including the submitted alternatives, information, analyses and summaries) during a 30-day public comment period beginning on the date of this notice. The draft EA is available online at: https://www.fisheries.noaa.gov/west-coast/laws-and-policies/west-coast-region-national-environmental-policy-act-documents. This notice is provided pursuant to Section 10(c) of the ESA (16 U.S.C. 1529(c)). All comments and materials received, including names and addresses, will become part of the administrative record and may be released to the public. We provide this notice in order to allow the public, agencies, or other organizations to review and comment on these documents.

Next Steps

NMFS will evaluate the applications, associated documents, and comments submitted to determine whether the applications meet the requirements of Section 10(a)(1)(A) of the ESA and Federal regulations. The final permit decisions will not be made until after the end of the 30-day public comment period and after NMFS has fully considered all relevant comments received. NMFS will publish notice of its final action in the Federal Register.

Authority: Enhancement permits are issued in accordance with Section 10(a)(1)(A) of the ESA (16 U.S.C. 1531 et. seq.) and regulations governing listed fish and wildlife permits (50 CFR 222).

Dated: November 23, 2022.
Celeste Stout,
Acting Chief, Endangered Species Division, Office of Protected Resources, National Marine Fisheries Service.

[FR Doc. 2022-26028 Filed 11-28-22; 8:45 am]

BILLING CODE 3510-22-P